DEPARTMENT OF AGRICULTURE

Natural Resources Conservation Service

Rehabilitation of Multiple Purpose Dam No. 3 of the Muddy Fork of the Illinois River Watershed, Washington County, Arkansas

AGENCY: Natural Resources Conservation Service, USDA.

ACTION: Notice of a Finding of No Significant Impact.

SUMMARY: Pursuant to Section 102(2)(c) of the National Environmental Policy Act of 1969; the Council on Environmental Quality Regulations (40 CFR Part 1500); and the Natural Resources Conservation Service Regulations (7 CFR Part 650); the Natural Resources Conservation Service, U.S. Department of Agriculture, gives notice that an environmental impact statement is not being prepared for the rehabilitation of Multiple Purpose Dam No. 3 of the Muddy Fork of the Illinois River Watershed, Washington County, Arkansas.

FOR FURTHER INFORMATION CONTACT: Kalven L. Trice, State Conservationist, Natural Resources Conservation Service, Rm. 3416 Federal Building, 700 West Capital Avenue, Little Rock, AR 72201-3225, Telephone (501) 301-3100.

SUPPLEMENTARY INFORMATION: The environmental assessment of this federally assisted action indicates that the project will not cause significant local, regional, or national impacts on the environment. As a result of these findings, Kalven L. Trice, State Conservationist, has determined that the preparation and review of an environmental impact statement is not needed for this project.

The project will rehabilitate Multiple Purpose Dam (MPD) No. 3 to maintain the present level of flood control, fish habitat and recreational benefits and comply with the current dam safety and performance standards. Local Sponsoring Organizations for the rehabilitation of MPD No. 3 are the Arkansas Game and Fish Commission and Washington County Conservation District.

Rehabilitation of MPD No. 3 will require the dam to be modified to meet current performance and safety standards for a high hazard dam. The modification will consist of:

• The existing principal spillway inlet and conduit are adequate. The principal spillway crest will be maintained at Elevation 1169.3, the current permanent pool elevation.

• Increasing spillway capacity by the addition of a 100-foot wide RCC structural spillway over the top of dam to supplement the existing 110-foot wide vegetated auxiliary spillway, with the crest elevation of both spillways set at Elevation 1175.3 feet, the current elevation for the vegetated spillway.

• Raising the top of dam and dike (located northwest of the pool area) from Elevation 1179.0 feet to Elevation 1181.9 feet to safely pass the 6-hour to 72-hour duration Probable Maximum Precipitation (PMP) storms.

All disturbed areas will be planted to plants that have wildlife values. The proposed work will not affect any prime farmland, endangered or threatened species, wetlands, or cultural resources.

Federal assistance will be provided under authority of the Small Watershed Rehabilitation Amendments of 2000 (Section 313, Pub. L. 106-472). Total project cost is estimated to be $1,429,900, of which $1,019,600 will be paid from the Small Watershed Rehabilitation funds and $410,300 from local funds.

The notice of a Finding of No Significant Impact (FONSI) has been forwarded to the Environmental Protection Agency and to various Federal, State, and local agencies and interested parties. A limited number of copies of the FONSI are available to fill single copy requests at the above address. Basic data developed during the environmental assessment are on file and may be reviewed by contacting Kalven L. Trice, State Conservationist.

No administrative action on implementation of the proposal will be taken until August 8, 2007.

Dated: June 28, 2007.
Kalven L. Trice,
State Conservationist.

[FR Doc. E7-13226 Filed 7-6-07; 8:45 am]

BILLING CODE 3410-16-P